DEPARTMENT OF THE INTERIOR

Bureau of Land Management

[UT-912-02-1120-PG-24-1A]

Notice of Resource Advisory Council Subgroup Meeting

AGENCY: Bureau of Land Management, Interior.

ACTION: Notice of Utah Resource Advisory Council (RAC) meeting.

SUMMARY: The purpose of this notice is to announce a Resource Advisory Council Subgroup Meeting scheduled for August 14, 2002, Provo, Utah.

The objective of this meeting will be to evaluate the product of the technical team relative to a best management practice standard for raptor management and consider that in the context of potential development of land use alternatives for land use planning.

The meeting will be held at the Provo Marriott Hotel, 101 West 100 North, Provo, Utah from 9 a.m. until 4 p.m. From 3:30 p.m.-4 p.m., a public comment period is scheduled where members of the public may address the Subgroup. Written comments may be mailed to the Bureau of Land Management at the address listed below.

All meetings are open to the public; however, transportation, lodging, and meals are the responsibility of the participating public.

FOR FURTHER INFORMATION CONTACT: Sherry Foot, Special Programs Coordinator, Utah State Office, Bureau of Land Management, 324 South State Street, Salt Lake City, 84111; phone (801) 539-4195.

Dated: July 24, 2002.
Robert A. Bennett,
Associate State Director.

[FR Doc. 02-19285 Filed 7-30-02; 8:45 am]

BILLING CODE 4310-$$-M